DEPARTMENT OF HOMELAND SECURITY

Transportation Security Administration

49 CFR Chapter XII

[Docket No. TSA-2016-0002]

RIN 1652-AA56

Surface Transportation Vulnerability Assessments and Security Plans (VASP); Reopening of Comment Period

AGENCY: Transportation Security Administration, DHS.

ACTION: Advance notice of proposed rulemaking; reopening of comment period.

SUMMARY: The Transportation Security Administration is reopening the comment period for the advance notice of proposed rulemaking, published in the Federal Register on December 16, 2016, requesting public comments on several topics relevant to the development of surface transportation vulnerability assessment and security plan regulations mandated by the Implementing Recommendations of the 9/11 Commission Act of 2007 (9/11 Act). TSA is reopening the comment period for an additional 60 days due to several requests by commenters in the rulemaking docket.

DATES: The comment period for the proposed rule published in the Federal Register on December 16, 2016 (81 FR 91401) is reopened. Comments must be received by May 15, 2017.

ADDRESSES: You may submit comments, identified by the TSA docket number to this rulemaking, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue SE., West Building Ground Floor, Room W12-140, Washington, DC 20590-0001; fax (202) 493-2251. The Department of Transportation (DOT), which maintains and processes TSA's official regulatory dockets, will scan the submission and post it to FDMS.

FOR FURTHER INFORMATION CONTACT: Harry Schultz (TSA Office of Security Policy and Industry Engagement) or Traci Klemm (TSA Office of the Chief Counsel) at telephone (571) 227-3531 or email to VASPPOLICY@tsa.dhs.gov.

SUPPLEMENTARY INFORMATION: On December 16, 2016, TSA published an advance notice of proposed rulemaking (ANPRM) in the Federal Register (81 FR 91401), requesting public comments on several topics relevant to the development of surface transportation vulnerability assessment and security plan regulations mandated by the Implementing Recommendations of the 9/11 Commission Act of 2007 (9/11 Act). Based on its regular interaction with stakeholders, TSA assumes many higher-risk railroads (freight and passenger), public transportation agencies, and over-the-road buses (OTRBs) have implemented security programs with security measures similar to those identified by the 9/11 Act's regulatory requirements. In general, TSA is requesting information on three types of issues: (1) Existing practices, standards, tools, or other resources used or available for conducting vulnerability assessments and developing security plans; (2) information on existing security measures, including whether implemented voluntarily or in response to other regulatory requirements, and the potential impact of additional requirements on operations; and (3) information on the scope/cost of current security systems and other measures used to provide security and mitigate vulnerabilities. This information is necessary for TSA to establish the current baseline, estimate cost of implementing the statutory mandate, and develop appropriate performance standards.

The comment period closed on February 14, 2017. TSA received multiple requests to extend the comment period. TSA believes reopening the comment period is necessary to meet the intended purpose of the ANPRM—to obtain information and perspectives from potentially regulated entities. Please see the ANPRM for additional background.

Dated: March 6, 2017.
Huban A. Gowadia,
Acting Administrator.

[FR Doc. 2017-04976 Filed 3-13-17; 8:45 am]

BILLING CODE 9110-05-P